DEPARTMENT OF HEALTH AND HUMAN SERVICES

[Document Identifier: OS-0990-0478]

Agency Information Collection Request. 30-Day Public Comment Request

AGENCY: Office of the Secretary, HHS

ACTION: Notice.

SUMMARY: In compliance with the requirement of the Paperwork Reduction Act of 1995, the Office of the Secretary (OS), Department of Health and Human Services, is publishing the following summary of a proposed collection for public comment.

DATES: Comments on the ICR must be received on or before September 1, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-0478 30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Unified Hospital Data Surveillance System (U.S. Healthcare COVID-19 Collection).

Type of Collection: Emergency Revision.

OMB No.: 0990-0478.

Abstract: Since March 29, 2020, the U.S. government has been collecting data from hospitals and states to understand health care system stress, capacity, capabilities, and the number of patients hospitalized due to COVID-19. The principal use of the data collected through this ICR is to inform federal allocations of limited supplies (e.g., protective equipment and medication). It is also used to inform the White House, conduct research on hospitalization, and communicate to the public through daily and weekly reports for the public's use and analysis.

Hospitals, with the exception of psychiatric and rehabilitation hospitals, are required to report seven days a week but, where possible and pending further direction from their state or jurisdiction, are encouraged to report weekend data on the following Monday with the data backdated to the appropriate date. Data elements may be required or optional and may be associated with a specific cadence. Some data elements are requested at each reporting interval (i.e., daily), while others are requested weekly. As of the August 10, 2022 guidance, per Secretary discretion, psychiatric and rehabilitation facilities must submit data once annually for the week prior to meet federal reporting requirements. This may evolve based on the needs of the national response. All hospitals are asked to follow the direction of their state and jurisdiction to ensure reporting meets state, tribal, local, and territorial (STLT) needs. This collection will continue for the length of the public health emergency declaration.

Estimated Annualized Burden Table
Type of respondent | Number of respondents | Number responses per respondent | Average burden per response (in hours) | Total burden hours
Hospitals (excluding Psychiatric and Rehabilitation Hospitals) | 5,200 | 365 | 1.1 | 2,087,800
Psychiatric and Rehabilitation Hospitals | 870 | 1 | 1.1 | 957
Total |  |  |  | 2,088,757

Sherrette A. Funn,
Paperwork Reduction Act Reports Clearance Officer, Office of the Secretary.

[FR Doc. 2022-16505 Filed 8-1-22; 8:45 am]

BILLING CODE 4150-37-P